DEPARTMENT OF TRANSPORTATION

Office of the Secretary

[Docket Number DOT-OST-2008-0196]

Notice of Request for Reinstatement of an Information Collection

AGENCY: Office of the Secretary.

ACTION: Notice.

SUMMARY: In compliance with the Paperwork Reduction Act of 1995, Public Law 104-13 (44 U.S.C. 3501 et seq.), this notice announces that the Information Collection Request, abstracted below, is being forwarded to the Office of Management and Budget for renewal and comment. The ICR describes the nature of the information collection and its expected cost burden. The Federal Register Notice with a sixty day comment period soliciting comments on the following collection of information was published on August 26, 2008 [FR Vol. 73, page 50396]. No comments were received.

DATES: Written comments on this notice should be received on or before September 18, 2009.

FOR FURTHER INFORMATION CONTACT: Robert Ashby, Acting Assistant General Counsel for Regulation and Enforcement, Office of the Secretary, U.S. Department of Transportation, 1200 New Jersey Avenue, SE., Suite W94-302, Washington, DC 20590, (202) 366-9310.

Comments: Comments should be submitted to OMB: Attention DOT/OST Desk Officer, Office of Information and Regulatory Affairs, Office of Management and Budget, Docket Library, Room 10102, 725 17th Street, NW., Washington, DC 20503, with the associated OMB Approval Number 2100-0019 and Docket DOT-OST-2008-0196 or oira_submission@omb.eop.gov (e-mail).

SUPPLEMENTARY INFORMATION:

Title: Transportation for Individuals with Disabilities ; Accessibility of Over-the-Road Buses (OTRBs).

OMB Control Number: 2100-0019.

Type of Review: Reinstatement of an Information Collection.

Respondents: Charter/tour service operators, fixed route companies, small mixed service operators.

Number of Respondents: 316,226.

Number of Responses: Variable.

Total Annual Burden: 182,873 hours.

Abstract: The Department of Transportation (DOT), in conjunction with the U.S. Architectural and Transportation Barriers Compliance Board, issued final access regulations for privately operated over-the-road buses (OTRBs) as required by the Americans with Disability Act (ADA) of 1990. The Final Rule on Accessibility of Over-the-Road Buses has the following recordkeeping/reporting requirements: The first has to do with 48 hour advance notice and compensation. The second has to do with equivalent service and compensation. The third has to do with reporting information on ridership on accessible fixed route buses. The fourth has to do with recordkeeping for 5 years. The fifth has to do with report submission to DOT annually. The sixth has to do with reporting information on the purchase and lease of accessible and inaccessible new and used buses. When initiating the information collection as part of the rulemaking that established the requirements in question, the Department provided the estimate of burdens set forth below. We have no reason to believe that the time necessary to comply with the information collection requirements has changed in the meantime. We would note that this estimate assumes compliance by bus operators with the information collection requirements. Reporting rates, however, have been low.

The purpose of the information collection requirements is to provide data that the Department can use in reviewing the provisions of its rule and to assist the Department in its oversight of compliance by bus companies. In particular, the data will be used to assist the Department in conducting the reevaluation of the requirements of the over-the-road bus rule mentioned in the regulation itself.

Burden Statement: The amount of data sought is held to the minimum amount necessary to ensure compliance with the regulation. As suggested in comments from both the bus industry and disability community commenters during the rulemaking leading to this rule, recordkeeping and reporting of this kind would be useful for the purpose of ensuring compliance. The cumulative total burden for the information collection is between 167,889 hours (low estimate) and 182,873 hours (high estimate).

Comments are invited on: (a) Whether this collection of information (third party notification) is necessary for the proper performance of the agency, including whether the information will have practical utility; (b) the accuracy of the agency's estimate of burden of the proposed collection of information; (c) ways to enhance the quality, utility, and clarity of the information collected; and (d) ways to minimize the burden of the collection of information on the respondents, including through the use of automated techniques or other forms of information technology.

All responses to this notice will be summarized and included in the request for OMB approval. All comments will also become a matter of public record.

Issued in Washington, DC on August 13, 2009.
Tracey M. Jackson,
Office of the Chief Information Officer.

[FR Doc. E9-19922 Filed 8-18-09; 8:45 am]

BILLING CODE 4910-9X-P